GENERAL SERVICES ADMINISTRATION

[OMB Control No. 3090-0289; Docket 2012-0001; Sequence 18]

Information Collection; Tangible Personal Property Report (SF-428A, 428B, and 428C)

AGENCY: Office of Governmentwide Policy, General Services Administration (GSA).

ACTION: Notice of request for comments regarding an extension to an existing OMB clearance.

SUMMARY: Under the provisions of the Paperwork Reduction Act, the Office of Governmentwide Policy will submit to the Office of Management and Budget (OMB) a request to review and approve an extension of a previously approved information collection requirement concerning reporting tangible personal property.

In support of OMB's continuing effort to reduce paperwork and respondent burden, GSA invites the general public and other Federal agencies to take this opportunity to comment on the proposed information collection. In accordance with the Paperwork Reduction Act of 1995, this notice seeks comments concerning forms that will be used to collect information related to tangible personal property when required by a Federal financial assistance award. To view the form, go to OMB's main Web page at www.OMB.gov and click on the “Grants Management” and “Forms” links. OMB specifically requests comments on: (a) Whether the proposed collection of information is necessary for the proper performance of the functions of the agency, including whether the information shall have practical utility; (b) the accuracy of the estimate of the burden of the proposed collection of information; (c) the quality, utility, and clarity of the information to be collected; and (d) ways to minimize the burden of the collection of information on respondents, including through the use of automated collection techniques or other forms of information technology.

DATES: Comment Due Date: June 4, 2013.

FOR FURTHER INFORMATION CONTACT: Michael Nelson, Chair, Post-Award Workgroup; telephone 202-482-4538; fax 301-713-0806; email Michael.Nelson@noaa.gov; mailing address 1305 East-West Highway, Room 7142, Silver Spring, MD 20910.

ADDRESSES: Submit comments identified by Information Collection 3090-0289, Tangible Personal Property Report, by any of the following methods:

• Regulations.gov: http://www.regulations.gov.

Submit comments via the Federal eRulemaking portal by searching the OMB control number. Select the link “Submit a Comment” that corresponds with “Information Collection 3090-0289, Tangible Personal Property Report.” Follow the instructions provided at the “Submit a Comment” screen. Please include your name, company name (if any), and “Information Collection 3090-0289, Tangible Personal Property Report” on your attached document.

• Fax: 202-501-4067.

• Mail: General Services Administration, Regulatory Secretariat (MVCB), 1275 First Street NE., Washington, DC 20417. ATTN: Hada Flowers/IC 3090-0289, Tangible Personal Property Report.

Instructions: Please submit comments only and cite Information Collection 3090-0289, Tangible Personal Property Report, in all correspondence related to this collection. All comments received will be posted without change to http://www.regulations.gov, including any personal and/or business confidential information provided.

SUPPLEMENTARY INFORMATION:

A. Purpose

GSA, on behalf of the Federal Grants Streamlining Initiative, proposes to renew a standard form, the Tangible Personal Property Report (SF-428). The SF-428 includes a cover page, an Annual Report attachment, a Final Report attachment, a Disposition/Request Report attachment and a Supplemental Sheet to provide detailed item information. The purpose of this form is to provide a standard form for assistance recipients to use when they are required to provide a Federal agency with information related to federally owned property, or equipment and supplies (tangible personal property) acquired with assistance award funds. The form does not create any new reporting requirements. It does establish a standard annual reporting date of September 30 to be used if an award does not specify an annual reporting date. The standard form will replace any agency unique forms currently in use to allow uniformity of collection and to support future electronic submission of information.

Background

Public Law 106-107 requires OMB to direct, coordinate, and assist Executive Branch departments and agencies in establishing an interagency process to streamline and simplify Federal financial assistance procedures for non-Federal entities. The law also requires executive agencies to develop, submit to Congress, and implement a plan for that streamlining and simplification. Twenty-six Executive Branch agencies jointly submitted a plan to the Congress in May 2001. The plan described the interagency process through which the agencies would review current policies and practices and seek to streamline and simplify them. The process involved interagency work groups under the auspices of the U.S. Chief Financial Officers Council, Grants Policy Committee. The plan also identified substantive areas in which the interagency work groups had begun their review. Those areas are part of the Federal Grants Streamlining Initiative.

This proposed form is an undertaking of the interagency Post-Award Workgroup that supports the Federal Grants Streamlining Initiative. Additional information on the Federal Grants Streamlining Initiative, which focuses on implementing the Federal Financial Assistance Management Improvement Act of 1999 (Pub. L. 106-107), is set forth in the Federal Register published on September 13, 2006 (71 FR 54098). An overview of the SF-428 and five other report forms being developed under the Initiative was provided during a webcast of the Grants Policy Committee of the U.S. Chief Financial Officers Council held on March 8, 2007 (72 FR 7090, February 14, 2007).

Under the standards for management and disposition of federally-owned property, equipment and supplies (tangible personal property) in 2 CFR part 215, the “Uniform Administrative Requirements for Grants and Agreements With Institutions of Higher Education, Hospitals, and Other Non-Profit Organizations,” and the “Uniform Administrative Requirements for Grants and Agreements with State and Local Governments,” codified by Federal agencies at 53 FR 8048, March 11, 1988, recipients may be required to provide Federal agencies with information concerning property in their custody annually, at award closeout or when the property is no longer needed. During the public consultation process mandated by Public Law 106-107, recipients suggested the need for clarification of these requirements and the establishment of a standard form to help them submit appropriate property information when required. The Tangible Personal Property Report (SF-428) must be used in connection with requirements listed in the table below and Federal awarding agency guidelines:

For * * * | A recipient must * * * | When * * * | Under * * *
Federally owned property | Submit an inventory listing | Annually, with information accurate as of 30 September, unless the award specifies a different date | 2 CFR 215.33(a)(1) A-102, ___.32(f)(2)
| Request Federal agency authorization | It wants to use the property on other activities not sponsored by the Federal Government | 2 CFR 215.34(d)
| Notify the Federal awarding agency | Immediately upon finding property is lost, damaged, or stolen | 2 CFR 215.33(f)(4)
| Request disposition instructions | The property is no longer needed | 2 CFR 215.33(a)(1) A-102, ___.32(f)(3)
|  | Upon completion of the award | 2 CFR 215.33(a)(1) and 2 CFR 215.71(f) A-102, ___.50(b)(5)
Grantee-acquired equipment in which the Federal Government retains an interest | Obtain the approval of the Federal awarding agency | Acquiring replacement equipment, before: (1) using the current equipment as trade-in; or (2) selling it and using the proceeds to offset the costs of the replacement equipment | 2 CFR 215.34(e) A-102, ___.32(c)(4)
| Compensate the original Federal awarding agency or its successor | Equipment has a per unit fair market value of greater than $5,000 and the grantee no longer needs the equipment for Federally supported activities and retains the equipment for other uses | 2 CFR 215.34(g) A-102, ___.32(e)(2)
| Request disposition instructions | It no longer needs the equipment for any purpose | 2 CFR 215.34(g)
| Sell the equipment and reimburse the Federal awarding agency for the Federal share | Equipment has a per unit fair market value of greater than $5,000 and the recipient no longer needs the equipment for any purpose and requested disposition instructions, and either was instructed to sell the equipment or received no instructions within 120 days | 2 CFR 215.34(g)(1) A-102, ___.32(e)(2)
| Account for the equipment | Upon completion of the award, when the awarding agency has reserved the right to transfer title to the Federal Government or a third party | 2 CFR 215.71(f) and 2 CFR 215.34(g)(4)(ii)
Supplies | Compensate the Federal Government for its share | It has a residual inventory of unused supplies exceeding $5,000 in aggregate value at the end of a project or program that is not needed for other Federally supported activities | 2 CFR 215.35(a) A-102, ___.33(b)

B. Annual Reporting Burden

This report will be used to collect information related to tangible personal property (equipment and supplies) when required by a Federal financial assistance award. The Tangible Personal Property Report (SF-428) was posted to the OMB MAX Web site. Fourteen agencies posted annual burden estimates. The estimated total annual burden hours are 33,346.5. A listing with the number of respondents, the number of responses per respondent and average burden per hour per recipient by agency follows.

Respondents: Federal agencies and their assistance recipients.

Estimated Total Annual Burden Hours: 33,346.5

Estimated Cost: There is no expected cost to the respondents or to agencies.

Annual Burden Estimates
Instrument | Agency | Number of respondents | Number of responses per respondent | Average burden hours per response | Total burden hours
Tangible Personal Property Report (TPPR) and Attachments | DOE | 750 | 1.5 | 2.75 | 3,094
Tangible Personal Property Report (TPPR) and Attachments | EPA | 300 | 1 | 2 | 600
Tangible Personal Property Report (TPPR) and Attachments | DOD | 300 | 1 | 2.75 | 825
Tangible Personal Property Report (TPPR) and Attachments | SSA | 125 | 1 | 2 | 250
Tangible Personal Property Report (TPPR) and Attachments | IMLS | 1000 | 1.5 | 2 | 3,000
Tangible Personal Property Report (TPPR) and Attachments | DOC | 130 | 1 | 2 | 260
Tangible Personal Property Report (TPPR) and Attachments | DHS | 972 | 1.5 | 2.75 | 4,009.5
Tangible Personal Property Report (TPPR) and Attachments | HHS OPDIVs | 7681 | 1 | 2 | 15,362
Tangible Personal Property Report (TPPR) and Attachments | HUD | 4158 | 1 | 1.43 | 5,946
Tangible Personal Property Report (TPPR) and Attachments | NEA | 0 | 0 | 0 | 0
Tangible Personal Property Report (TPPR) and Attachments | NEH | 0 | 0 | 0 | 0
Tangible Personal Property Report (TPPR) and Attachments | ED | 0 | 0 | 0 | 0
Tangible Personal Property Report (TPPR) and Attachments | VA | 0 | 0 | 0 | 0

Obtaining Copies of Proposals: Requesters may obtain a copy of the information collection documents from the General Services Administration, Regulatory Secretariat (MVCB), 1275 First Street NE., Washington, DC 20417, telephone (202) 501-4755. Please cite OMB Control No. 3090-0289, Tangible Personal Property Report, in all correspondence.

Dated: March 27, 2013.
Casey Coleman,
Chief Information Officer.

[FR Doc. 2013-07965 Filed 4-4-13; 8:45 am]

BILLING CODE 6820-RH-P